DEPARTMENT OF COMMERCE

National Oceanic and Atmospheric Administration

RIN 0648-XA760

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Joint Whiting Oversight and Advisory Panel in November, 2011 to consider actions affecting New England fisheries in the exclusive economic zone (EEZ). Recommendations from this group will be brought to the full Council for formal consideration and action, if appropriate.

DATES: The meeting will be held on Thursday November 3, 2011 at 10 a.m.

ADDRESSES: The meeting will be held at the Hotel Providence, 139 Mathewson Street, Providence, RI 02903: Telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Advisory Panel and Oversight Committee will review an initial a Draft Amendment 19 document and possibly recommend preferred or modified alternatives. The recommendations will be forwarded to the Council at the November 2011 Council meeting. Amendment 19 includes alternatives for annual catch limits, accountability measures, a specifications process, total allowable landings (TAL) allocations, incidental possession limits when landings reach a high fraction of the TAL, and red hake possession limits.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 7, 2011.
Tracey L. Thompson,
Acting Director, Office of Sustainable Fisheries, National Marine Fisheries Service.

[FR Doc. 2011-26460 Filed 10-12-11; 8:45 am]

BILLING CODE 3510-22-P